NUCLEAR REGULATORY COMMISSION

[Docket Nos. 50-282, 50-306, 72-10]

In the Matter of: Nuclear Management Company, LLC; License Nos DPR-42, DPR-60, SNM-2506; Northern States Power Company; (Prairie Island Nuclear Generating Plant, Units 1 and 2) Order Approving Transfer of License and Conforming Amendment

I.

Northern States Power Company, a Minnesota corporation (NSPM) and Nuclear Management Company, LLC (NMC) are holders of Facility Operating License No. DPR-42 and DPR-60, which authorize the possession, use, and operation of Prairie Island Nuclear Generating Plant (Prairie Island), Units 1 and 2, and Materials License SNM-2506, which authorizes the possession, use, and operation of the Prairie Island Independent Spent Fuel Storage Installation (ISFSI). NSPM is authorized to possess, and NMC is authorized to use and operate Prairie Island and the Prairie Island ISFSI. The facilities are located at the licensees' site in Goodhue County, Minnesota.

II.

By letter dated April 16, 2008, as supplemented by letter dated August 6, 2008, NSPM and NMC requested approval for NSPM to acquire the operating authority of the facilities from NMC following approval of the proposed license transfer. Subsequently, NSPM will be responsible for the operation and maintenance of Prairie Island and the Prairie Island ISFSI. NMC will be integrated into the current NSPM organization, which would be the sole entity holding both the ownership and operating authority of the facilities.

The applicants also requested approval of conforming license amendments that would replace references to NMC in the licenses with references to NSPM to reflect the transfer of operating authority under the applicable conditions and authorizations included in the Prairie Island licenses. The applicants proposed no physical changes to the facilities or operational changes. After completion of the proposed transfer, NSPM would become the operator, as well as continue to be the owner of the facilities.

Approval of the transfer of the licensed operating authority and conforming license amendments are requested by the applicants pursuant to Sections 50.80 and 50.90 of Title 10 of the Code of Federal Regulations (10 CFR). Notice of the request for approval and opportunity for a hearing were published in the Federal Register on June 5, 2008 (73 FR 32055). No comments and no petitions to intervene were received.

Pursuant to 10 CFR 50.80 and 10 CFR 72.50, no license, or any right thereunder, shall be transferred, directly or indirectly, through transfer of control of the license, unless the Commission shall give its consent in writing. Upon review of the information in the application and other information before the Commission, and relying upon the representations and agreements contained in the application, the NRC staff has determined that NSPM is qualified to continue to hold the ownership interests in the facilities, and is qualified to acquire and hold the operating authority previously held by NMC, and that the transfer of the operating interests in the facilities to NSPM described in the application is otherwise consistent with applicable provisions of law, regulations, and orders issued by the Commission, subject to the conditions set forth below. The NRC staff has further found that the applications for the proposed license amendments comply with the standards and requirements of the Atomic Energy Act of 1954, as amended (the Act), and the Commission's rules and regulations set forth in 10 CFR Chapter I; the facilities will operate in conformity with the applications, the provisions of the Act, and the rules and regulations of the Commission; there is reasonable assurance that the activities authorized by the proposed license amendments can be conducted without endangering the health and safety of the public and that such activities will be conducted in compliance with the Commission's regulations; the issuance of the proposed license amendments will not be inimical to the common defense and security or to the health and safety of the public; and the issuance of the proposed amendments will be in accordance with 10 CFR Part 51 of the Commission's regulations and all applicable requirements have been satisfied.

The findings set forth above are supported by NRC staff's safety evaluation dated the same day as this Order.

III.

Accordingly, pursuant to sections 161b, 161i, and 184 of the Act, 42 U.S.C. Sections 2201(b), 2201(i), and 2234; and 10 CFR 50.80 and 10 CFR 72.50, IT IS HEREBY ORDERED that the transfer of the operating authority of the licenses, as described herein, from NMC to NSPM is approved.

It is further ordered that, consistent with 10 CFR 2.1315(b), the license amendments that make changes, as indicated in Enclosure 2 to the cover letter forwarding this Order, to conform the licenses to reflect the subject direct license transfer are approved. The amendments shall be issued and made effective at the time the proposed direct license transfers are completed.

It is further ordered that NMC and NSPM shall inform the Director of the Office of Nuclear Reactor Regulation, in writing, of the date of closing of the transfer of NMC's operating interests in Prairie Island and the Prairie Island ISFSI at least 1 business day prior to closing. Should the transfer of the licenses not be completed within one year of this Order's date of issuance, this Order shall become null and void, provided, however, that upon written application and for good cause shown, such date may be extended by order.

This Order is effective upon issuance.

For further details with respect to this Order, see the initial application dated April 16, 2008, the supplement dated August 6, 2008, and the safety evaluation dated the same date as this Order, which are available for public inspection at the Commission's Public Document Room (PDR), located at One White Flint North, 11555 Rockville Pike, Room O-1 F21 (First Floor), Rockville, Maryland and accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail at pdr@nrc.gov.

Dated at Rockville, Maryland this 15th day of September, 2008.
For the Nuclear Regulatory Commission.
Eric J. Leeds,
Director, Office of Nuclear Reactor Regulation.

[FR Doc. E8-22530 Filed 9-24-08; 8:45 am]

BILLING CODE 7590-01-P